NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on June 2-4, 2004, 11545 Rockville Pike, Rockville, Maryland. The date of this meeting was previously published in the Federal Register on Monday, November 21, 2003 (68 FR 65743).

Wednesday, June 2, 2004, Conference Room T-2B3, Two White Flint North, Rockville, Maryland

8:30 a.m.-8:35 a.m.: Opening Remarks by the ACRS Chairman (Open)—The ACRS Chairman will make opening remarks regarding the conduct of the meeting.

8:35 a.m.-10:30 a.m.: Draft Final 10 CFR 50.69, “Risk-Informed Categorization and Treatment of Structures, Systems, and Components for Nuclear Power Reactors” (Open)—The Committee will hear presentations by and hold discussions with representatives of the NRC staff and Nuclear Energy Institute (NEI) regarding the draft final 10 CFR 50.69, and draft final Regulatory Guide DG-1121, “Guidelines for Categorizing Structures, Systems, and Components in Nuclear Power Plants According to Their Safety Significances,” which endorses NEI 00-04, “10 CFR 50.69 SSC Categorization Guideline.”

10:45 a.m.-11:45 a.m.: Revised License Renewal Review Process (Open)—The Committee will hear presentations by and hold discussions with representatives of the NRC staff regarding the revised process for the staff's review of the license renewal applications.

12:45 p.m.-1:15 p.m.: Preparation for Meeting with the NRC Commissioners (Open)—The Committee will discuss the following topics scheduled for the ACRS meeting with the NRC Commissioners: PWR Sump Performance, PRA Quality for Decisionmaking, Risk-Informing 10 CFR 50.46, NRC Safety Research Program Report, Economic Simplified Boiling Water Reactor (ESBWR) Pre-Application Review, and Interim Review of the AP1000 Design.

1:30 p.m.-3:30 p.m.: Meeting with the NRC Commissioners, Commissioners' Conference Room, One White Flint North, Rockville, MD (Open)—The Committee will meet with the NRC Commissioners to discuss the topics noted above.

4 p.m.-5:30 p.m.: Digital Instrumentation and Control System Research Activities (Open)—The Committee will hear presentations by and hold discussions with representatives of the NRC staff and their contractors regarding NRC research activities in the area of digital instrumentation and control (I&C) systems and related matters.

5:45 p.m.-6:45 p.m.: Preparation of ACRS Reports (Open)—The Committee will discuss proposed ACRS reports on matters considered during this meeting.

Thursday, June 3, 2004, Conference Room T-2B3, Two White Flint North, Rockville, Maryland

8:30 a.m.-8:35 a.m.: Opening Remarks by the ACRS Chairman (Open)—The ACRS Chairman will make opening remarks regarding the conduct of the meeting.

8:35 a.m.-10:30 a.m.: NRC Staff's Response to the ACRS Report on the AP1000 Design (Open)—The Committee will hear presentations by and hold discussions with representatives of the NRC staff regarding their response to ACRS comments and recommendations included in the March 17, 2004 ACRS report on the AP1000 design.

10:45 a.m.-12 Noon: Proposed Revisions to Standard Review Plan (SRP) Sections and Process and Schedule for Revising the SRP (Open)—The Committee will hear presentations by and hold discussions with representatives of the NRC staff regarding the proposed revisions to SRP Sections: 5.2.3, “Reactor Coolant Pressure Boundary Materials;” 5.3.1, “Reactor Vessel Materials;” and 5.3.3, “Reactor Vessel Integrity;” as well as the process and schedule for revising various SRP Sections, including milestones for ACRS review of the proposed revisions.

1:30 p.m.-2:30 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

2:30 p.m.-2:45 p.m.: Reconciliation of ACRS Comments and Recommendations (Open)—The Committee will discuss the responses from the NRC Executive Director for Operations (EDO) to comments and recommendations included in recent ACRS reports and letters. The EDO responses are expected to be made available to the Committee prior to the meeting.

3 p.m.-6:30 p.m.: Preparation of ACRS Reports (Open)—The Committee will discuss proposed ACRS reports.

Friday, June 4, 2004, Conference Room T-2B3, Two White Flint North, Rockville, Maryland

8:30 a.m.-11 a.m.: Metrics for Evaluating the Quality of the NRC Research Programs (Open)—The Committee will discuss the quantitative metrics for use by the ACRS in evaluating the quality of the NRC research programs.

11 a.m.-4 p.m.: Preparation of ACRS Reports(Open)—The Committee will continue its discussion of proposed ACRS reports.

4 p.m.-4:30 p.m.: Miscellaneous (Open)—The Committee will discuss matters related to the conduct of Committee activities and matters and specific issues that were not completed during previous meetings, as time and availability of information permit.

Procedures for the conduct of and participation in ACRS meetings were published in the Federal Register on October 16, 2003 (68 FR 59644). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

Further information regarding topics to be discussed, whether the meeting has been canceled or rescheduled, as well as the Chairman's ruling on requests for the opportunity to present oral statements and the time allotted therefore can be obtained by contacting Mr. Sam Duraiswamy, Cognizant ACRS staff (301-415-7364), between 7:30 a.m. and 4:15 p.m., ET.

ACRS meeting agenda, meeting transcripts, and letter reports are available through the NRC Public Document Room at pdr@nrc.gov, or by calling the PDR at 1-800-397-4209, or from the Publicly Available Records System (PARS) component of NRC's document system(ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., ET, at least 10 days before the meeting to ensure the availability of this service.Individuals or organizations requesting this service will be responsible for telephone line charges and for providing the equipment and facilities that they use to establish the videoteleconferencing link. The availability of videoteleconferencing services is not guaranteed.

Dated: May 13, 2004.
Andrew L. Bates,
Advisory Committee Management Officer.

[FR Doc. 04-11298 Filed 5-18-04; 8:45 am]

BILLING CODE 7590-01-P